DEPARTMENT OF COMMERCE

International Trade Administration

[C-570-959]

Certain Coated Paper Suitable for High-Quality Print Graphics Using Sheet-Fed Presses From the People's Republic of China: Rescission of Countervailing Duty Administrative Review; 2019

AGENCY: Enforcement and Compliance, International Trade Administration, Department of Commerce.

SUMMARY: The Department of Commerce (Commerce) is rescinding the administrative review of the countervailing duty (CVD) order on certain coated paper suitable for high-quality print graphics using sheet-fed presses from the People's Republic of China (China) for the period of review (POR) January 1, 2019, through December 31, 2019, based on the timely withdrawal of the request for review.

DATES: Applicable April 23, 2021.

FOR FURTHER INFORMATION CONTACT: William Langley, AD/CVD Operations, Office I, Enforcement and Compliance, International Trade Administration, U.S. Department of Commerce, 1401 Constitution Avenue NW, Washington, DC 20230; telephone: (202) 482-3861.

SUPPLEMENTARY INFORMATION:

Background

On November 3, 2020, Commerce published a notice of opportunity to request an administrative review of the CVD order on certain coated paper suitable for high-quality print graphics using sheet-fed presses (coated paper) from China for the POR of January 1, 2019, through December 31, 2019.¹ In accordance with section 751(a) of the Tariff Act of 1930, as amended (the Act), and 19 CFR 351.213(b), Commerce received a timely-filed request for an administrative review from Verso Corporation (the petitioner) for the following producers/exporters: Shandong Sun Paper Industry Joint Stock Co., Ltd.; Yanzhou Tianzhang Paper Industry Co., Ltd.; Shandong International Paper and Sun Coated Paperboard Co., Ltd.; International Paper and Sun Cartonboard Co., Ltd.; Gold East Paper (Jiangsu) Co., Ltd.; Gold Huasheng Paper Co., Ltd.; Gold East (Hong Kong) Trading Co., Ltd.; Ningbo Zhonghua Paper Co., Ltd.; Ningbo Asia Pulp and Paper Co., Ltd.; Hainan Jinhai Pulp and Paper Co., Ltd.; Shandong Huatai Paper Industry Shareholding Co., Ltd.; Shandong Chenming Paper Holding Ltd.; Chenming HK, Ltd.; Jingxi Chenming Paper Co., Ltd.; and Sinar Mas Paper (China) Investment Co. Ltd.²

¹ See Antidumping or Countervailing Duty Order, Finding, or Suspended Investigation; Opportunity to Request Administrative Review, 85 FR 69586 (November 3, 2020).

² See the petitioner's Letter, “Administrative Review of the Countervailing Duty Order on Certain Coated Paper Suitable for High-Quality Print Graphics Using Sheet-Fed Presses from the People's Republic of China (1/01/19-12/31/19),” dated November 30, 2020.

On January 6, 2021, pursuant to this request and in accordance with 19 CFR 351.221(c)(1)(i), Commerce published a notice initiating an administrative review of the CVD order on coated paper from China with respect to each of the requested companies.³ On March 26, 2021, the petitioner withdrew its request for an administrative review with respect to all of the companies for which it had requested a review.⁴

³ See Initiation of Antidumping and Countervailing Duty Administrative Reviews, 86 FR 511 (January 6, 2021).

⁴ See the petitioner's Letter, “Certain Coated Paper Suitable for High-Quality Print Graphics Using Sheet-Fed Presses from the People's Republic of China: Withdrawal of Request for Administrative Review,” dated March 26, 2021.

Rescission of Review

Pursuant to 19 CFR 351.213(d)(1), Commerce will rescind an administrative review, in whole or in part, if the party or parties that requested a review withdraws the request within 90 days of the publication date of the notice of initiation of the requested review. As noted above, the petitioner withdrew its request for review of all companies within 90 days of the publication date of the notice of initiation. No other parties requested an administrative review of the order. Therefore, in accordance with 19 CFR 351.213(d)(1), we are rescinding this review in its entirety.

Assessment

Commerce will instruct U.S. Customs and Border Protection (CBP) to assess countervailing duties on all appropriate entries of coated paper from China. Countervailing duties shall be assessed at rates equal to the cash deposit of estimated countervailing duties required at the time of entry, or withdrawal from warehouse, for consumption in accordance with 19 CFR 351.212(c)(1)(i). Commerce intends to issue appropriate assessment instructions to CBP no earlier than 35 days after the date of publication of this notice in the Federal Register.

Notification Regarding Administrative Protective Orders

This notice also serves as a reminder to all parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: April 19, 2021.
James Maeder,
Deputy Assistant Secretary for Antidumping and Countervailing Duty Operations.

[FR Doc. 2021-08412 Filed 4-22-21; 8:45 am]

BILLING CODE 3510-DS-P